ENVIRONMENTAL PROTECTION AGENCY

40 CFR Part 71

[OAR-2002-0047, FRL-7520-3]

Revisions to Federal Operating Permits Program Fee Payment Deadlines for California Agricultural Sources

AGENCY: Environmental Protection Agency (EPA).

ACTION: Withdrawal of direct final rule.

SUMMARY: Because we received adverse comment, we are withdrawing the direct final rule to amend the Federal Operating Permits Program fee payment deadlines for California agricultural sources. We published the direct final rule on May 13, 2003. We stated in that Federal Register document that if we received adverse comment by June 12, we would publish a timely withdrawal in the Federal Register. We subsequently received adverse comment on that direct final rule. We will address those comments in a subsequent final action based on the parallel proposal also published on May 13, 2003. As stated in the parallel proposal, we will not institute a second comment period on this action.

DATES: As of June 27, 2003, EPA withdraws the direct final rule published at 68 FR 25507 on May 13, 2003.

ADDRESSES: Docket number OAR-2002-0047, containing supporting information used in the development of the withdrawal is available for public viewing at the Air Docket in the EPA Docket Center, Room B108, 1301 Constitution Avenue, NW., Washington, DC 20460. The EPA Docket Center Public Reading Room is open from 8:30 a.m. to 4:30 p.m., Monday through Friday, excluding legal holidays. The telephone number for the Public Reading Room is (202) 566-1744. The telephone number for the Air Docket is (202) 566-1742.

An electronic version of the public docket is available through EPA's electronic public docket and comment system, EPA Dockets. You may use EPA Dockets at http://www.epa.gov/edocket/ to view public comments, access the index of the contents of the official public docket, and access those documents in the public docket that are available electronically. Once in the system, select “search” and key in the appropriate docket identification number.

Certain types of information will not be placed in the EPA Dockets. Information claimed as confidential business information and other information whose disclosure is restricted by statute, which are not included in the official public docket, will not be available for public viewing in EPA's electronic public docket. The EPA's policy is that copyrighted material will not be placed in EPA's electronic public docket but will be available only in printed, paper form in the official public docket. Although not all docket materials may be available electronically, you may still access any of the publicly available docket materials through the docket facility identified in this document.

FOR FURTHER INFORMATION CONTACT: Ms. Candace Carraway, Operating Permits Group, Office of Air Quality Standards and Planning (C304-04), U.S. EPA, Research Triangle Park, North Carolina 27711; telephone number (919) 541-3189; facsimile number (919) 541-5509; electronic mail address carraway.candace@epa.gov.

SUPPLEMENTARY INFORMATION: On May 13, 2003, we published a direct final rule (68 FR 25507) and a parallel proposal (68 FR 25548) amending the fee provisions of the Federal Operating Permits Program. The amendment extended the date by which State-exempt major agricultural sources in California must pay fees and allowed their permit applications to be considered complete even though fees may not have been paid on or before the date that applications are due.

We stated in the preamble to the direct final rule and parallel proposal that if we received significant adverse comment on the direct final rule, we would publish a timely withdrawal of the rule in the Federal Register. The direct final rule stated that the deadline for submitting public comments was June 12, 2003, and that the effective date of the provisions would be June 27, 2003.

Accordingly, the direct final rule is withdrawn as of June 27, 2003.

List of Subjects in 40 CFR Part 71

Environmental protection, Administrative practice and procedure, Air pollution control, Intergovernmental relations, Reporting and recordkeeping requirements.

Dated: June 20, 2003.
Robert Brenner,
Acting Assistant Administrator for Air and Radiation.

[FR Doc. 03-16326 Filed 6-26-03; 8:45 am]

BILLING CODE 6560-50-P